DEPARTMENT OF TRANSPORTATION

Federal Aviation Administration

14 CFR Part 39

[Docket No. FAA-2007-0214; Directorate Identifier 2007-NM-224-AD; Amendment 39-15528; AD 2008-11-06]

RIN 2120-AA64

Airworthiness Directives; McDonnell Douglas Model 717-200 Airplanes

AGENCY: Federal Aviation Administration (FAA), DOT.

ACTION: Final rule.

SUMMARY: We are adopting a new airworthiness directive (AD) for certain McDonnell Douglas Model 717-200 airplanes. This AD requires installing an additional support bracket for the gray water drain hose; replacing the screw of the support bracket with a new screw for the potable water supply hose; installing a spacer; doing a detailed inspection to detect interference or wear damage on hoses, lines and/or cables; and doing corrective actions if necessary. This AD results from reports of interference between the potable water supply hose and/or gray water drain hose at the aft lavatories and the fuel line and/or power feeder cables of the auxiliary power unit (APU) located below the aft cabin floor. We are issuing this AD to prevent interference and chafing between the potable water supply hose and/or gray water hose and the fuel line and/or power feeder cables of the APU, which could cause arcing and sparking, and/or fuel leaking, and consequent fire.

DATES: This AD is effective July 3, 2008.

The Director of the Federal Register approved the incorporation by reference of a certain publication listed in this AD as of July 3, 2008.

ADDRESSES: For service information identified in this AD, contact Boeing Commercial Airplanes, Long Beach Division, 3855 Lakewood Boulevard, Long Beach, California 90846, Attention: Data and Service Management, Dept. C1-L5A (D800-0024).

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION:

Discussion

We issued a notice of proposed rulemaking (NPRM) to amend 14 CFR part 39 to include an airworthiness directive (AD) that would apply to certain McDonnell Douglas Model 717-200 airplanes. That NPRM was published in the Federal Register on November 21, 2007 (72 FR 65478). (A correction of the proposed rule was published in the Federal Register on December 21, 2007 (72 FR 72823).) That NPRM proposed to require installing an additional support bracket for the gray water drain hose; replacing the screw of the support bracket with a new screw for the potable water supply hose; installing a spacer; doing a detailed inspection to detect interference or wear damage on hoses, lines and/or cables; and doing corrective actions if necessary.

Comments

We gave the public the opportunity to participate in developing this AD. We considered the comments received.

Request To Exclude a Certain Airplane From the Applicability Statement

AirTran Airways (AirTran) states that it supports the proposed actions, but requests that we remove a certain airplane (fuselage number 5005) from the proposed applicability statement. AirTran notes that the proposed requirements were accomplished on this specific airplane during the Boeing service bulletin validation program, so it should not be required to re-accomplish the proposed requirements or to obtain an approval of an alternative method of compliance in order to comply with the AD.

We agree that the specific airplane should not be subject to this AD because it has already had the required actions completed on it. Therefore, we have excluded that airplane from the applicability statement of this AD.

Request To Revise Certain Language

Boeing requests that we revise certain language in the Discussion section of the NPRM to clarify the cause of the unsafe condition and the circumstances under which it was identified.

We agree that the language suggested by Boeing is more accurate and does clarify the circumstances under which the specified unsafe condition was identified. However, because the Discussion section is not repeated in this final rule, we have not changed the AD in this regard.

Request To Revise Paragraph (g) of the NPRM

Boeing requests that we revise paragraph (g) of the NPRM to require accomplishment of the actions specified in that paragraph in accordance with Boeing Alert Service Bulletin 717-38A0004, Revision 1, dated August 15, 2007. Paragraph (g) of the NPRM specifies contacting the FAA for certain repair instructions. Boeing asserts that the current proposed language is unduly restrictive on operators and that operators should be allowed to use standard practices specified in certain maintenance manuals.

We do not agree to revise paragraph (g) of this AD to refer to the service bulletin for certain repair instructions, as suggested by Boeing. In two places, where the service bulletin addresses the corrective action for “APU Fuel Line Interference and/or Wear”, Boeing states to repair the APU fuel line and references the MD-80 airplane maintenance manual. As such, the AD does allow operators to use standard practices specified in the airplane maintenance manual. However, Boeing also states “or contact Boeing for a specific repair.” It is our understanding that Boeing's intent is that in the unlikely event that damage is found that is not addressed by the standard practices contained in the airplane maintenance manual, the operator should contact Boeing for a “specific” repair. We do not consider a specific repair to be “standard” practices. For this reason, paragraph (g) of this AD specifies that operators contact us only when the service bulletin specifies contacting the manufacturer. To allow operators to contact the manufacturer for a specific repair would be delegating our rulemaking authority to the manufacturer. Without paragraph (g), the AD would be requiring only an unspecified Boeing developed repair. This is in fact delegating our rulemaking authority to Boeing. We have not changed the AD in this regard.

Request To Allow Credit for Revision 1 or Later Revisions of the Service Bulletin

Boeing requests that we revise paragraph (h) of the NPRM to allow credit for actions done using Revision 1 of the service bulletin. Boeing asserts that the text of the NPRM would not credit operators that used Revision 1 of the service bulletin as having met the intent of the AD. Boeing also requests that we allow operators to use later versions of the service bulletin.

We do not agree. This AD requires the actions to be done in accordance with Revision 1 of the service bulletin. In the event that an operator accomplishes the required actions in accordance with Revision 1 of the service bulletin before the effective date of the AD, paragraph (e) specifies that the actions are required “unless already accomplished.” Therefore, credit for using Revision 1 before the effective date of the AD is already provided. We have not changed the AD in this regard.

Conclusion

We reviewed the relevant data, considered the comments received, and determined that air safety and the public interest require adopting the AD with the change described previously. We also determined that this change will not increase the economic burden on any operator or increase the scope of the AD.

Costs of Compliance

There are about 123 airplanes of the affected design in the worldwide fleet. This AD affects about 95 airplanes of U.S. registry. The required actions take about 70 work hours per airplane, at an average labor rate of $80 per work hour. The manufacturer states that it will supply required parts to the operators at no cost. Based on these figures, the estimated cost of the AD for U.S. operators is $532,000, or $5,600 per airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-11-06 McDonnell Douglas: Amendment 39-15528. Docket No. FAA-2007-0214; Directorate Identifier 2007-NM-224-AD.

Effective Date

(a) This airworthiness directive (AD) is effective July 3, 2008.

Affected ADs

(b) None.

Applicability

(c) This AD applies to McDonnell Douglas Model 717-200 airplanes, certificated in any category; as identified in Boeing Alert Service Bulletin 717-38A0004, Revision 1, dated August 15, 2007; excluding fuselage number 5005.

Unsafe Condition

(d) This AD results from reports of interference between the potable water supply hose and/or gray water drain hose at the aft lavatories with the fuel line and/or power feeder cables of the auxiliary power unit (APU) located below the aft cabin floor. We are issuing this AD to prevent interference and chafing between the potable water supply hose and/or gray water hose with the fuel line and/or power feeder cables of the APU, which could cause arcing and sparking, and/or fuel leaking, and consequent fire.

Compliance

(e) You are responsible for having the actions required by this AD performed within the compliance times specified, unless the actions have already been done.

Installations, Replacements, Inspections, and Corrective Actions

(f) Within 27 months after the effective date of this AD, do the installations, replacement, inspections, and applicable corrective actions by accomplishing all the actions specified in the Accomplishment Instructions of Boeing Alert Service Bulletin 717-38A0004, Revision 1, dated August 15, 2007; except as provided by paragraph (g) of this AD. The applicable corrective actions must be done before further flight.

(g) If any discrepancy is found during any inspection required by this AD, and Boeing Alert Service Bulletin 717-38A0004, Revision 1, dated August 15, 2007, specifies to contact Boeing for appropriate action: Before further flight, repair the discrepancy in accordance with the procedures specified in paragraph (i) of this AD.

Credit for Actions Done Using the Previous Service Information

(h) Actions accomplished before the effective date of this AD in accordance with Boeing Alert Service Bulletin 717-38A0004, dated December 6, 2006, is considered acceptable for compliance with the corresponding actions specified in paragraph (f) of this AD.

Alternative Methods of Compliance (AMOCs)

(i)(1) The Manager, Los Angeles ACO, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(j) You must use Boeing Alert Service Bulletin 717-38A0004, Revision 1, dated August 15, 2007, to do the actions required by this AD, unless the AD specifies otherwise.

(1) The Director of the Federal Register approved the incorporation by reference of this service information under 5 U.S.C. 552(a) and 1 CFR part 51.

(2) For service information identified in this AD, contact Boeing Commercial Airplanes, Long Beach Division, 3855 Lakewood Boulevard, Long Beach, California 90846, Attention: Data and Service Management, Dept. C1-L5A (D800-0024).

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on May 12, 2008.
Ali Bahrami,
Manager, Transport Airplane Directorate, Aircraft Certification Service.

[FR Doc. E8-11721 Filed 5-28-08; 8:45 am]

BILLING CODE 4910-13-P